DEPARTMENT OF ENERGY

Federal Energy Regulatory Commission

[Docket No. RP00-402-002]

Paiute Pipeline Company; Notice of Correction Filing

September 20, 2001.

Take notice that on September 17, 2001, Paiute Pipeline Company (Paiute) tendered for filing as part of its FERC Gas Tariff, Second Revised Volume No. 1-A, the following tariff sheets:

Substitute First Revised Sheet No. 80

Substitute Second Revised Sheet No. 113A

Substitute First Revised Sheet No. 126

Paiute indicates that the purpose of the filing is to correct certain tariff sheets submitted with its September 10, 2001, compliance filing in Docket No. RP00-402-001.

Paiute states that copies of the filing are being mailed to its customers, state commissions and other interested parties.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24011 Filed 9-25-01; 8:45 am]

BILLING CODE 6717-01-P